DEPARTMENT OF LABOR

Employment and Training Administration

[TA-W-71,269]

Horton Manufacturing Company, LLC, Tallmadge, OH; Amended Certification Regarding Eligibility To Apply for Worker Adjustment Assistance

In accordance with Section 223 of the Trade Act of 1974, as amended (“Act”), 19 U.S.C. 2273, the Department of Labor issued a Certification of Eligibility to Apply for Worker Adjustment Assistance on March 11, 2010, applicable to workers of Horton Archery, LLC, formerly known as Wildcomm-Horton Partners, LLC, Tallmadge, Ohio. The Department's notice of determination was published in the Federal Register April 23, 2010 (75 FR 21355).

At the request of the State agency, the Department reviewed the certification for workers of the subject firm. The workers are engaged in the production of archery equipment.

Information shows that Horton Manufacturing Company, LLC went into receivership in 2009 and subsequently sold its assets to Wildcomm-Horton Partners, LLC. Later, Wildcomm-Horton Partners, LLC changed its name to Horton Archery, LLC.

Based on these findings, the Department determines that the separated workers were employees of Horton Manufacturing Company, LLC and were not employees of either Wildcomm-Horton Partners, LLC or Horton Archery, LLC.

The intent of the Department's certification is to include all workers of Horton Manufacturing Company, LLC, Tallmadge, Ohio, who were adversely affected by increased imports of archery equipment, and to exclude all other workers.

The amended notice applicable to TA-W-71,269 is hereby issued as follows:

All workers of Horton Manufacturing Company, LLC, Tallmadge, Ohio, who became totally or partially separated from employment on or after June 16, 2008 through March 11, 2012, are eligible to apply for adjustment assistance under Chapter 2 of Title II of the Trade Act of 1974, as amended.

Signed at Washington, DC this 30th day of June, 2010.
Del Min Amy Chen,
Certifying Officer, Division of Trade Adjustment Assistance.

[FR Doc. 2010-17381 Filed 7-15-10; 8:45 am]

BILLING CODE 4510-FN-P